NEIGHBORHOOD REINVESTMENT CORPORATION

Finance, Budget & Program Committee Board of Directors Meeting; Sunshine Act

Time & Date: 10 a.m., Thursday, November 3, 2011.

Place: 1325 G Street, NW., Suite 800, Boardroom, Washington, DC 20005.

Status: Open.

Contact Person for More Information: Erica Hall, Assistant Corporate Secretary (202) 220-2376; ehall@nw.org.

Agenda:

I. Call To Order

II. Executive Session

III. Financial Report

III. Budget Report

IV. Lease Update

V. Corporate Scorecard

VI. NFMC & EHLP

VII. Program Updates

VIII. Adjournment

Erica Hall,
Assistant Corporate Secretary.

[FR Doc. 2011-28473 Filed 10-31-11; 11:15 am]

BILLING CODE 7570-02-P